DEPARTMENT OF AGRICULTURE

Natural Resources Conservation Service

Notice of Proposed Change to Section IV of the Field Office Technical Guide (FOTG) of the Natural Resources Conservation Service in Arkansas

AGENCY: Natural Resources Conservation Service (NRCS), U.S. Department of Agriculture.

ACTION: Notice of availability of proposed changes in Section IV of the FOTG of the NRCS in Arkansas for review and comment.

SUMMARY: It is the intention of the NRCS in Arkansas to issue revised conservation practice standards for Conservation Cover (Code 327); Conservation Crop Rotation (Code 328); Contour Buffer Strips (Code 332); Cover Crop (Code 340); Field Border (Code 386); Filter Strip (Code 393) Firebreak (Code 394); Nutrient Management (Code 590); Pest Management (Code 595); Soil Salinity Management—Nonirrigated (Code 571); Stripcroping Field (Code 585); Forest Stand Improvement (Code 666); Forest Trails and Landings (Code 655); Site Preparation for Woody Plant Establishment (Code 490).

DATES: Comments will be received on or before August 27, 2001.

FOR FURTHER INFORMATION CONTACT: Inquire in writing to Kalven L. Trice, State Conservationist, Natural Resources Conservation Service, Room 3416 Federal Building, 700 West Capitol Avenue, Little Rock, Arkansas 72201-3225. Copies of the practice will be made available upon written request.

SUPPLEMENTARY INFORMATION: Section 343 of the Federal Agriculture Improvement and Reform Act of 1996 states that revisions made after enactment of the law to NRCS state technical guides used to carry out highly erodible land and wetland provisions of the law shall be made available for public review and comment. For the next 30 days the NRCS in Arkansas will receive comments relative to the proposed changes. Following that period a determination will be made by the NRCS in Arkansas regarding disposition of those comments and a final determination of change will be made.

Dated: June 14, 2001.
Sonja S. Coderre,
Acting State Conservationist, USDA, Natural Resources Conservation Service.

[FR Doc. 01-18452 Filed 7-25-01; 8:45 am]

BILLING CODE 3410-16-P